FEDERAL EMERGENCY MANAGEMENT AGENCY

44 CFR Part 65

[Docket No. FEMA-B-7422]

Changes in Flood Elevation Determinations

AGENCY: Federal Emergency Management Agency (FEMA).

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for each listed community.

From the date of the second publication of these changes in a newspaper of local circulation, any person has ninety (90) days in which to request through the community that the Acting Administrator, Federal Insurance and Mitigation Administration reconsider the changes. The modified elevations may be changed during the 90-day period.

ADDRESSES: The modified BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: The modified BFEs are not listed for each community in this interim rule. However, the address of the Chief Executive Officer of the community where the modified base flood elevation determinations are available for inspection is provided.

Any request for reconsideration must be based on knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR Part 10, Environmental Consideration. No environmental impact assessment has been prepared.

Regulatory Flexibility Act

The Acting Administrator, Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Dates and name of newspaper where notice was published | Chief executive officer of community | Effective date of modification | Community Number
Arizona: Maricopa | City of Avondale (01-09-018P) | August 10, 2001, August 17, 2001, Arizona Republic | The Honorable Ronald J. Drake, Mayor, City of Avondale, 525 North Central Avenue, Avondale, Arizona 85323 | July 24, 2001 | 040038
Arizona: Maricopa | City of Avondale (01-09-497P) | September 12, 2001, September 19, 2001, Arizona Republic | The Honorable Ronald J. Drake, Mayor, City of Avondale, 525 North Central Avenue, Avondale, Arizona 85323 | August 23, 2001 | 040038
Arizona: Maricopa | City of Goodyear (01-09-497P) | September 12, 2001, September 19, 2001, Arizona Republic | The Honorable Bill Arnold, Mayor, City of Goodyear, 119 North Litchfield Road, Goodyear, Arizona 85338 | August 23, 2001 | 040046
Arizona: Maricopa | City of Goodyear (01-09-124P) | March 14, 2001, March 21, 2001, West Valley View | The Honorable Bill Arnold, Mayor, City of Goodyear, 119 North Litchfield Road, Goodyear, Arizona 85338 | February 27, 2001 | 040046
Arizona: Maricopa | City of Scottsdale (01-09-632P) | September 19, 2001, September 26, 2001, Arizona Republic | The Honorable Mary Manross, Mayor, City of Scottsdale, 3939 North Drinkwater Boulevard, Scottsdale, Arizona 85251 | August 31, 2001 | 045012
Arizona: Pima | Unincorporated Areas (01-09-430P) | August 23, 2001, August 30, 2001, Arizona Daily Star and Tucson Citizen | The Honorable Raul Grijalva, Chairman, Pima County Board of Supervisors, 130 West Congress, 11th Floor, Tucson, Arizona 85701 | August 7, 2001 | 040073
California: Marin | City of Novato (01-09-674P) | August 8, 2001, August 15, 2001, Novato Advance | The Honorable James W. Henderson, Mayor, City of Novato, 900 Sherman Avenue, Novato, California 94945 | July 18, 2001 | 060178
California: San Diego | City of Poway (00-09-080P) | August 9, 2001, August 16, 2001, Poway News Chieftain | The Honorable Mickey Cafagna, Mayor, City of Poway, 13325 Civic Center Drive, Poway, California 92064 | July 25, 2001 | 060702
Colorado: Jefferson | City of Arvada (01-08-059P) | August 30, 2001, September 6, 2001, Arvada Sentinel | The Honorable Ken Fellman, Mayor, City of Arvada, City Hall, 8101 Ralston Road, Arvada, Colorado 80002 | December 5, 2001 | 085072
Colorado: Jefferson | City of Lakewood (01-08-331P) | August 9, 2001, August 16, 2001, Lakewood Sentinel | The Honorable Steve Burkholder, Mayor, City of Lakewood, 480 South Allison Parkway, Lakewood, Colorado 80226-3127 | July 25, 2001 | 085075
Colorado: Jefferson | City of Westminster (99-08-419P) | September 27, 2001, October 4, 2001, Westminster Window | The Honorable Nancy M. Heil, Mayor, City of Westminister, 4800 West 92nd Avenue, Westminister, Colorado 80031 | September 20, 2001 | 080008
Colorado: Larimer | City of Fort Collins (00-08-365P) | June 8, 2001, June 15, 2001, Fort Collins Coloradoan | The Honorable Ray Martinez, Mayor, City of Fort Collins, P.O. Box 580, Fort Collins, Colorado 80522-0580 | August 23, 2001 | 080102
Nevada: Clark | City of Mesquite (01-09-997P) | September 19, 2001, September 26, 2001, Las Vegas Review-Journal | The Honorable Charles Home, Mayor, City of Mesquite, 10 East Mesquite Boulevard, Mesquite, Nevada 89027 | September 10, 2001 | 320035
Nevada: Douglas | Unicorporated Areas (01-09-231P) | September 12, 2001, September 19, 2001, Record Courier | Mr. Daniel C. Holler, County Manager, Douglas County, P.O. Box 218, Minden, Nevada 89423-0218 | August 16, 2001 | 320008
Oregon: Multnomah | City of Milwaukie (01-10-191P) | September 13, 2001, September 20, 2001, The Oregonian | The Honorable Carolyn Tomei, Mayor, City of Milwaukie, 10722 Southeast Main Street, Milwaukie, Oregon 97222 | December 19, 2001 | 410019
Oregon: Multnomah | City of Portland (01-10-191P) | September 13, 2001, September 20, 2001, The Oregonian | The Honorable Vera Katz, Mayor, City of Portland, 1221 Southwest Fourth Avenue, Suite 340, Portland, Oregon 97204 | December 19, 2001 | 410183
Oregon: Multnomah | Unincorporated Areas (01-10-191P) | September 13, 2001, September 20, 2001, The Oregonian | The Honorable Diane Linn, Chairperson, Multnomah County Board of Commissioners, 501 Southeast Hawthorne Boulevard, Suite 600, Portland, Oregon 97214 | December 19, 2001 | 410179
South Dakota: Union | Unincorporated Areas (99-08-326P) | January 18, 2001, January 25, 2001, Leader Courier | The Honorable Roger Boldenow, Chairman, Union County Board of Commissioners, P.O. Box 519, Elk Point, South Dakota 57025-0519 | December 28, 2000 | 460242
Texas: Bexar | City of San Antonio (01-06-1953X) | September 27, 2001, October 4, 2001, San Antonio Express News | The Honorable Edward D. Garza, Mayor, City of San Antonio, P.O. Box 839966, San Antonio, Texas 78283-3966 | January 2, 2002 | 480045
Texas: Dallas | City of Carrollton (00-06-1211P), (00-06-1214P), (00-06-1216P) | February 16, 2001, February 23, 2001, Northwest Morning News (Formerly Metrocrest News) | The Honorable Milburn Gravley, Mayor, City of Carrollton, P.O. Box 110535, Carrollton, Texas 75011-0535 | May 24, 2001 | 480167
Texas: Lubbock | City of Lubbock | September 22, 2000, September 29, 2000, Lubbock Avalanche | The Honorable Windy Sitton, Mayor, City of Lubbock, P.O. Box 491, Lubbock, Texas 79408 | December 28, 2000 | 480452
Texas: Lubbock | City of Wolfforth (01-06-1799P) | September 27, 2001, October 4, 2001, Lubbock Avalanche Journal | The Honorable Sylvia Preston, Mayor, City of Wolfforth, 382 East Highway 62, Wolfforth, Texas 79382 | September 5, 2001 | 480918
Utah: Washington | City of Santa Clara (99-08-278P) | August 10, 2001, August 17, 2001, The Spectrum | The Honorable Fred Rowley, Mayor, City of Santa Clara, P.O. Box 699, Santa Clara, Utah 84765 | November 15, 2001 | 490178
Utah: Washington | City of St. George (99-08-278P) | August 10, 2001, August 17, 2001, The Spectrum | The Honorable Daniel D. McArthur, Mayor, City of St. George, 175 East 200 North, St. George, Utah 84770 | November 15, 2001 | 490177
Washington: Skamania | City of North Bonneville (01-10-488P) | September 19, 2001, September 26, 2001, Skamania County Pioneer | The Honorable John W. Kirk, Mayor, City of North Bonneville, P.O. Box 7, North Bonneville, Washington 98639 | September 13, 2001 | 530256

(Catalog of Federal Domestic Assistance No. 83.100, “Flood Insurance.”)

Dated: October 29, 2001.
Robert F. Shea,
Acting Administrator, Federal Insurance and Mitigation Administration.

[FR Doc. 01-28393 Filed 11-9-01; 8:45 am]

BILLING CODE 6718-04-P